DEPARTMENT OF ENERGY

Federal Energy Regulatory Commission

Combined Notice of Filings #1

Take notice that the Commission received the following electric rate filings:

Docket Numbers: ER20-2148-005.

Applicants: Lexington Chenoa Wind Farm LLC.

Description: Compliance filing: Informational Filing Pursuant to Schedule 2 of the PJM OATT & Request for Waiver to be effective N/A.

Filed Date: 2/11/22.

Accession Number: 20220211-5235.

Comment Date: 5 p.m. ET 3/4/22.

Docket Numbers: ER22-411-001.

Applicants: Southwest Power Pool, Inc.

Description: Tariff Amendment: Deficiency Response in ER22-411-Licoln Electric System Formula Rate to be effective 1/1/2022.

Filed Date: 2/14/22.

Accession Number: 20220214-5209.

Comment Date: 5 p.m. ET 3/7/22.

Docket Numbers: ER22-469-001.

Applicants: Southwest Power Pool, Inc.

Description: Tariff Amendment: 1148R31 American Electric Power NITSA and NOAs to be effective 12/1/2021.

Filed Date: 2/14/22.

Accession Number: 20220214-5150.

Comment Date: 5 p.m. ET 3/7/22.

Docket Numbers: ER22-928-001.

Applicants: Pacific Gas and Electric Company.

Description: Tariff Amendment: Withdraw Appx G from Q4 2021 CCSF WDT SA (SA 275) to be effective 2/1/2022.

Filed Date: 2/14/22.

Accession Number: 20220214-5201.

Comment Date: 5 p.m. ET 3/7/22.

Docket Numbers: ER22-1027-000.

Applicants: Associated Electric Cooperative, Inc.

Description: Request for Waiver of Tariff Provisions, et al. of Associated Electric Cooperative, Inc.

Filed Date: 2/11/22.

Accession Number: 20220211-5174.

Comment Date: 5 p.m. ET 3/4/22.

Docket Numbers: ER22-1033-000.

Applicants: PJM Interconnection, L.L.C.

Description: § 205(d) Rate Filing: Original CRA, Service Agreement No. 6359, Non-Queue No. NQ182 to be effective 1/12/2022.

Filed Date: 2/11/22.

Accession Number: 20220211-5233.

Comment Date: 5 p.m. ET 3/4/22.

Docket Numbers: ER22-1034-000.

Applicants: PJM Interconnection, L.L.C.

Description: § 205(d) Rate Filing: Original CRA, Service Agreement No. 6360, Non-Queue No. NQ184 to be effective 1/12/2022.

Filed Date: 2/11/22.

Accession Number: 20220211-5242.

Comment Date: 5 p.m. ET 3/4/22.

Docket Numbers: ER22-1035-000.

Applicants: RE Gaskell West LLC.

Description: Tariff Amendment: Notice of Cancellation of Cert of Concurrence to Shared Facilities Agreement to be effective 2/12/2022.

Filed Date: 2/11/22.

Accession Number: 20220211-5245.

Comment Date: 5 p.m. ET 3/4/22.

Docket Numbers: ER22-1036-000.

Applicants: PJM Interconnection, L.L.C.

Description: § 205(d) Rate Filing: Original CRA, Service Agreement No. 6361, Non-Queue No. NQ186 to be effective 1/12/2022.

Filed Date: 2/11/22.

Accession Number: 20220211-5246.

Comment Date: 5 p.m. ET 3/4/22.

Docket Numbers: ER22-1037-000.

Applicants: RE Gaskell West 2 LLC.

Description: § 205(d) Rate Filing: Certificate of Concurrence to Shared Facilities Agreement to be effective 2/12/2022.

Filed Date: 2/11/22.

Accession Number: 20220211-5247.

Comment Date: 5 p.m. ET 3/4/22.

Docket Numbers: ER22-1038-000.

Applicants: RE Gaskell West 3 LLC.

Description: § 205(d) Rate Filing: Certificate of Concurrence to Shared Facilities Agreement to be effective 2/12/2022.

Filed Date: 2/11/22.

Accession Number: 20220211-5248.

Comment Date: 5 p.m. ET 3/4/22.

Docket Numbers: ER22-1039-000.

Applicants: New England Power Pool Participants Committee, ISO New England Inc.

Description: § 205(d) Rate Filing: New England Power Pool Participants Committee submits tariff filing per 35.13(a)(2)(iii: Sunwave Termination Filing to be effective 4/13/2022.

Filed Date: 2/11/22.

Accession Number: 20220211-5253.

Comment Date: 5 p.m. ET 3/4/22.

Docket Numbers: ER22-1040-000.

Applicants: Pacific Gas and Electric Company.

Description: § 205(d) Rate Filing: 1st Amendment to SVP TO SA—revisions to Appx F (SA 343) to be effective 4/12/2022.

Filed Date: 2/11/22.

Accession Number: 20220211-5254.

Comment Date: 5 p.m. ET 3/4/22.

Docket Numbers: ER22-1041-000.

Applicants: ISO New England Inc.

Description: ISO New England Inc. submits Fourth Quarter 2021 Capital Budget Report.

Filed Date: 2/10/22.

Accession Number: 20220210-5211.

Comment Date: 5 p.m. ET 3/3/22.

Docket Numbers: ER22-1042-000.

Applicants: ACT Commodities, Inc.

Description: Tariff Amendment: ACT Commodities Inc. MBR Cancellation Filing to be effective 2/15/2022.

Filed Date: 2/14/22.

Accession Number: 20220214-5071.

Comment Date: 5 p.m. ET 3/7/22.

Docket Numbers: ER22-1043-000.

Applicants: PJM Interconnection, L.L.C.

Description: § 205(d) Rate Filing: Original WMPA, Service Agreement No. 6364; Queue No. AG2-374 to be effective 1/17/2022.

Filed Date: 2/14/22.

Accession Number: 20220214-5110.

Comment Date: 5 p.m. ET 3/7/22.

Docket Numbers: ER22-1044-000.

Applicants: PJM Interconnection, L.L.C.

Description: § 205(d) Rate Filing: Original WMPA, Service Agreement No. 6365; Queue No. AE2-309 to be effective 1/17/2022.

Filed Date: 2/14/22.

Accession Number: 20220214-5118.

Comment Date: 5 p.m. ET 3/7/22.

Docket Numbers: ER22-1045-000.

Applicants: Midcontinent Independent System Operator, Inc., Ameren Illinois Company.

Description: § 205(d) Rate Filing: Midcontinent Independent System Operator, Inc. submits tariff filing per 35.13(a)(2)(iii: 2022-02-14_SA 3028 Ameren IL-Prairie Power Project #36 Windsor to be effective 4/16/2022.

Filed Date: 2/14/22.

Accession Number: 20220214-5177.

Comment Date: 5 p.m. ET 3/7/22.

Docket Numbers: ER22-1046-000.

Applicants: Northern States Power Company, a Minnesota corporation.

Description: § 205(d) Rate Filing: 2022-02-14-NSP-SCPU-SISA-672-0.0.0 to be effective 2/15/2022.

Filed Date: 2/14/22.

Accession Number: 20220214-5182.

Comment Date: 5 p.m. ET 3/7/22.

Docket Numbers: ER22-1047-000.

Applicants: Alliance For Cooperative Energy Services Power Marketing LLC.

Description: Tariff Amendment: Notice of Cancellation of FERC Electric MBR Tariff, Rate Schedule FERC 1 to be effective 2/15/2022.

Filed Date: 2/14/22.

Accession Number: 20220214-5195.

Comment Date: 5 p.m. ET 3/7/22.

Docket Numbers: ER22-1048-000.

Applicants: Hecate Energy Highland LLC.

Description: § 205(d) Rate Filing: Certificate of Concurrence to Assignment, Co-Tenancy, and SFA to be effective 2/15/2022.

Filed Date: 2/14/22.

Accession Number: 20220214-5218.

Comment Date: 5 p.m. ET 3/7/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2022.
Kimberly D. Bose,
Secretary.

[FR Doc. 2022-03574 Filed 2-17-22; 8:45 am]

BILLING CODE 6717-01-P